ENVIRONMENTAL PROTECTION AGENCY

40 CFR Part 300

[EPA-HQ-SFUND-1983-0002; FRL-9908-42-Region-3]

National Oil and Hazardous Substances Pollution Contingency Plan; National Priorities List: Deletion of the Moyer's Landfill Superfund Site

AGENCY: Environmental Protection Agency.

ACTION: Direct final rule.

SUMMARY: The Environmental Protection Agency (EPA) Region III is publishing a direct final Notice of Deletion of the Moyer's Landfill Superfund Site (Site) located in Lower Providence Township, Montgomery County, Pennsylvania, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the Commonwealth of Pennsylvania, through the Pennsylvania Department of Environmental Protection (PADEP), because EPA has determined that all appropriate response actions under CERCLA, other than operation, maintenance, and five-year reviews, have been completed. However, this deletion does not preclude future actions under Superfund.

DATES: This direct final deletion is effective May 27, 2014 unless EPA receives adverse comments by April 28, 2014. If adverse comments are received, EPA will publish a timely withdrawal of the direct final deletion in the Federal Register informing the public that the deletion will not take effect.

ADDRESSES: Submit your comments, identified by Docket ID no. EPA-HQ-SFUND-1983-0002, by one of the following methods:

• http://www.regulations.gov. Follow on-line instructions for submitting comments.

• Email: fang.sharon@epa.gov.

• Fax: (215) 814-3002, Attn: Sharon Fang.

• Mail: U.S. Environmental Protection Agency, Region III, Attn: Sharon Fang (3HS21), 1650 Arch Street, Philadelphia, PA 19103-2029.

• Hand Delivery: U.S. Environmental Protection Agency, Region III, Attn: Sharon Fang (3HS21), 1650 Arch Street, Philadelphia, PA 19103-2029, Phone: 215-814-3018, Business Hours: Mon. thru Fri.-9:00 a.m. to 4:00 p.m. Such deliveries are only accepted during the Docket's normal hours of operation, and special arrangements should be made for deliveries of boxed information.

Instructions: Direct your comments to Docket ID No. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. EPA Region III, Superfund Records Center, 6th Floor, 1650 Arch Street, Philadelphia, PA 19103-2029; (215) 814-3157, Monday through Friday 8:00 a.m. to 5:00 p.m.

The Lower Providence Township Building, 100 Parkland Drive, Eagleville, PA 19403; phone (610) 539-8020. Monday through Friday 8:00 a.m.-4:30 p.m.

FOR FURTHER INFORMATION CONTACT: Sharon Fang, Remedial Project Manager (3HS21), U.S. Environmental Protection Agency, Region III, 1650 Arch Street, Philadelphia, PA 19103-2029; (215) 814-3018; email: fang.sharon@epa.gov.

SUPPLEMENTARY INFORMATION:

Table of Contents

I. Introduction

II. NPL Deletion Criteria

III. Deletion Procedures

IV. Basis for Site Deletion

V. Deletion Action

I. Introduction

EPA Region III is publishing this direct final Notice of Deletion of the Moyer's Landfill Superfund Site from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

Because EPA considers this action to be noncontroversial and routine, this action will be effective May 27, 2014 unless EPA receives adverse comments by April 28, 2014. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion and the deletion will not take effect. EPA will, as appropriate, prepare a response to comments and continue with the deletion process on the basis of the Notice of Intent to Delete and the comments already received. There will be no additional opportunity to comment.

Section II of this document explains the criteria for deleting sites from the NPL. Section III discusses the procedures that EPA is using for this action. Section IV discusses the Moyer's Landfill Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates such action is appropriate. Whenever there is a significant release from a site deleted from the NPL, the deleted site may be restored to the NPL without application of the hazard ranking system.

III. Deletion Procedures

The following procedures apply to deletion of the Site:

(1) EPA consulted with the Commonwealth of Pennsylvania prior to developing this direct final Notice of Deletion and the Notice of Intent to Delete the Site co-published today in the “Proposed Rules” section of the Federal Register.

(2) EPA provided the Commonwealth 30 working days for review of this notice and the parallel Notice of Intent to Delete prior to their publication today, and the Commonwealth, through PADEP, concurred on the deletion of the Site from the NPL.

(3) Concurrently with the publication of this direct final Notice of Deletion, a notice of the availability of the parallel Notice of Intent to Delete is being published in a major local newspaper, the Pottstown Mercury. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date, and will prepare a response to comments and continue with the deletion process, as appropriate, on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

Moyer's Landfill (EPA Identification Number (PAD980508766) is a 65-acre inactive privately owned landfill located at Moyer Road in Collegeville, Lower Providence Township, Montgomery County, Pennsylvania. The Site is about twenty-seven (27) miles northwest of Philadelphia, Pennsylvania. According to the 2010 Census, Lower Providence Township has a population of 25,436.

The Site consists of open land surrounded by wooded areas on steep slopes. The landfill is fenced off and covered with vegetation. Located on the Site are leachate collection tanks and a wooden storage shed in the south valley. Runoff is directed towards stormwater basins around the perimeter of the landfill and routed off the landfill cap. The Skippack Creek is located about 350 feet north-west of the landfill. The Skippack Creek then discharges into the Perkiomen Creek which eventually discharges into the Schuylkill River.

The current owner of the landfill property is Grange Environmental. There are no current development plans, though the Township has expressed interest in purchasing the property to preserve it as open space. The landfill is bounded on the north and west by Evansburg State Park, on the east by a single original home and a new housing development (Valley High Estates) and on the south by the new housing development and undeveloped land. The Skippack Creek flows through Evansburg State Park and has, in the past, been stocked with trout.

Groundwater in the Site area occurs in an aquifer which has poor water yields. Most of the residents in the vicinity of the landfill are on public water; however, there are approximately ten residential wells along Moyer Road and Visitation Road, which are upgradient and east of the Site. There are no residential wells between the landfill and Skippack Creek.

The Moyer's Landfill property operated as a municipal landfill from the early 1940s until April 1981. The original unlined landfill area was approximately 39 acres in size. In the late 1970s, the landfill owners submitted a request to expand the landfill boundaries to the northwest. Site preparation work began on a new area in 1977, and included installation of an asphalt liner prior to filling. Landfilling was reportedly limited to this new, lined area from the late 1970s to early 1981, at which time an order from the Pennsylvania Department of Environmental Resources (PADER), now PADEP, closed the facility.

Originally, there was no management of leachate from the landfill and the discharge either seeped into groundwater or discharged directly to Skippack Creek. In the early 1970's PADER developed and implemented more comprehensive landfill regulations. As a result, a leachate collection system was constructed and began operating in 1972. However, leachate still overflowed continuously from several collection pits located on the property.

In 1981, PADEP closed the facility. The Moyer's Landfill became a Superfund Site when it was listed on the National Priorities List, (48 FR 40658) on September 8, 1983. The Remedial Investigation and Feasibility Study were performed by EPA and financed by the Fund.

Remedial Investigation and Feasibility Study (RI/FS)

In the early 1980s, on-site leachate and seep samples were collected and analyzed. The samples were contaminated with eighty-six (86) priority pollutants and sixteen (16) metals, nearly all contaminants of concern. The landfill surface showed a number of leachate and seep locations which served as a continuous source of pollution to ground and surface waters. There was no evidence of any detectable level of air pollution.

Surface water samples were taken from Skippack Creek and the Perkiomen Creek, and fish and sediment samples were taken from Skippack Creek. Contaminants were detected in low concentrations in both surface water, sediment, and fish. The contaminants were attributable to the landfill.

Off-site residential wells bordering the landfill were sampled for priority pollutants, metals, organics, PCBs, dioxins, and beta radiation. These wells did not show any detectable levels of organic or inorganic pollution. The residential groundwater met all EPA Drinking Water Standards at the time. Shallow monitoring wells installed around the periphery of the landfill showed concentrations of contaminants in the groundwater above risk-based numbers.

The groundwater contamination was mostly due to surface water percolation through the landfill and into the groundwater. The groundwater level is lower than the bottom of the landfill. Site contaminants were transported directly to the surface water bodies via surface water runoff and indirectly through contaminated groundwater (upper aquifer) discharged to the creeks. The deeper aquifer was not contaminated.

Selected Remedy

The Record of Decision (ROD) identified the following contaminants which were above acceptable levels in leachate and seep samples: Arsenic, barium, lead, manganese, nickel, zinc, beta radiation, trichloroethylene (TCE), toluene, xylene, di-n-octylphthalate, 2-hexanone, 2-butanone, bis (2-ethylhexyl) phthalate, and acetic acid.

The ROD for the Moyer's Landfill Site dates from before the Superfund Amendments and Reauthorization Act of 1986 (SARA) and states the Remedial Action Objectives in the following manner: “The overall strategy is to mitigate and minimize harm to the public health and the environment. This should include minimizing further upper aquifer contamination and the possibility of direct contact with the waste. Leachate control is an integral part of the overall scheme in order to eliminate the continuing migration of contaminants across the Site and off the Site to the Skippack Creek.” Because EPA is responsible for protecting human health and the environment, EPA has conducted remedial actions such as capping the landfill and collecting landfill leachate and routing it for treatment. These actions prevent direct contact with the waste and contaminated leachate and prevent off-site migration of contamination via surface runoff and groundwater movement.

The 1985 ROD identified a primary and a contingent remedy. The implementation of the primary remedy depended on the success of the gas generation/recovery program. Since the gas recovery system was not feasible due to diminishing gas generation, the contingency alternative was implemented. The major components of the contingency remedy included:

• Miscellaneous work preparatory to installation of the RCRA cap: Grading, flattening of steep slopes, retaining walls and installation of rip-rap at areas that are most likely to be eroded;

• Construction of the RCRA cap;

• Gas venting and gas monitoring;

• Surface water collection and discharge to Skippack Creek;

• Security/fencing measures;

• Leachate collection and on-site treatment that will meet the 10⁻⁶ risk level in the groundwater and discharge requirements in the stream; and

• Operation and Maintenance: Ground and surface water monitoring, maintenance of the cap and treatment of leachate on-site.

In January 2000, EPA issued an Explanation of Significant Differences (ESD) which modified the leachate treatment portion of the remedy. The ESD changed the leachate treatment portion of the remedial action from on-site leachate treatment to leachate collection with treatment at an existing Publicly Owned Treatment Works (POTW). This change better protected the surface waters and the environment from the potential failure of an undersized treatment plant. In addition, routing the leachate to the POTW was shown to be more cost effective than building and operating a leachate treatment facility.

In September 2009, EPA issued a second ESD to require Institutional Controls (ICs) as part of the remedy. ICs are non-engineered instruments, such as administrative and legal controls, that are necessary to protect the integrity of the remedial measures on-site to ensure long-term protection of human health and the environment. ICs play an important role in site remedies because they reduce exposure to contamination by limiting land or resource use and guiding human behavior at a site.

Response Actions

EPA executed an Interagency Agreement with the U.S. Army Corps of Engineers (USACE) for the design of the remedial action, which was completed on April 20, 1989. EPA executed another Interagency Agreement with the USACE for the construction of the remedial action. After USACE began construction, local residents expressed concerns regarding truck traffic. In response, EPA then directed USACE to redesign a partial cap (instead of a full cap) with a perimeter leachate collection trench. A partial cap meant that less fill was needed for construction, thus reducing the truck traffic. Less cover, however, also led to steeper slopes for the redesigned landfill cap. The redesign was completed in November 1992 and construction of the redesigned landfill cap was completed in November 1994. The Remedial Action Report for the landfill cap, Operable Unit 1 (OU1) was completed in December 1996.

EPA identified the leachate collection and treatment portion of the remedial action as Operable Unit 2 (OU2). In January 2000, EPA issued the first ESD which changed the leachate treatment portion of the remedial action from on-site leachate treatment to leachate collection with treatment at an existing POTW. The modified remedial action was considered infeasible at the time of the ROD because the sewer line was not available near the Site when the ROD was issued. The construction of the OU2 remedial action was initiated in 2000 and completed in August 2002. OU2 responsibility was divided as follows: (1) Montgomery County constructed the municipal interceptor, (2) EPA via USACE constructed the necessary leachate equalization tanks, and (3) PADEP was responsible for collecting and transferring the leachate to the equalization tanks and from the tanks to the municipal interceptor. The Remedial Action Report for the leachate collection and treatment at the POTW (OU2) was completed in April 2004.

EPA and PADEP conducted a final inspection of the entire Site on August 30, 2002 and determined that the remedy had been constructed in accordance with the Remedial Design plans and specifications and that no further response was anticipated for this Site. The Moyer's Landfill Superfund Site achieved construction completion when the Preliminary Close-out Report was signed on September 17, 2002. Performance standards attained during the remediation were documented in the Remedial Action Completion Reports dated December 19, 1996 and April 4, 2004.

In October 2011, the Lower Providence Township approved an ordinance which serves as the IC for the Moyer's Landfill Site. The ordinance prohibits activities including, but not limited to, the following:

• Digging in or disturbance of the landfill cap, tampering with the hardware or equipment associated with the gas vents, monitoring wells, leachate collection and conveyance systems, or the security fencing.

• Any use of leachate generated at the Property including, without limitation, any activities that could cause exposure to contaminants in the leachate via ingestion, vapor inhalation or dermal contact.

• Digging in or disturbance of the landfill cap including, without limitation, any activities that could result in contact with contaminants in soils at the Property through ingestion, inhalation, or dermal contact.

Operation and Maintenance (O&M)

The USACE was responsible for maintenance of the landfill for the first eighteen months. A Site Maintenance Plan, dated January 1991, documented the expected activities to maintain and monitor the integrity of the Site, including monitoring the leachate, the groundwater in both the shallow and deep zones, and the gas vents on a quarterly basis, and visual inspections of the cap area and associated drainage/collection systems with corrective actions for identified problems. However, the plan stated that “the number of monitoring locations, analytical parameters, and sampling frequencies may be modified during the maintenance period by PADER. . . .” PADEP took responsibility for the landfill cap maintenance in May 1996. The responsibility for operation and maintenance (O&M) of the leachate storage and transfer system has always been with PADEP. EPA provided training on the system for PADEP and PADEP has been operating the system since start-up. The leachate currently is permitted by the Oaks POTW to meet their pretreatment program standards.

PADEP currently reports O&M status and issues to EPA. PADEP O&M consists of the following activities:

• Site Inspections: Once per month.

• Leachate Collection Inspections: Twice per month.

• Leachate Monitoring: Monthly reading of the leachate volume discharged to the POTW, and reporting information on total gallons per month and average daily flow rate to the POTW on a monthly basis, by the 15th of the month.

• Grass cutting: Twice per year. The landfill cap and surface water management features are inspected prior to each mowing.

• Repairs of Cap, Perimeter Road, Fence: As needed, as noted during site inspections.

• Tree removal: As needed, as noted during site inspections.

• Sampling of groundwater and air monitoring/gas vent: Every other year. Five monitoring wells, and the leachate sump in the South Valley are analyzed for volatile organics, TAL metals, and cyanide. The leachate may also be analyzed for other parameters requested by the POTW. Eight Summa canisters are deployed around the landfill (upwind and downwind) in order to record concentrations of volatile organic compounds. In addition, the Department also deploys up to six smaller, silica-lined Summa canisters to sample directly from active gas vents on the Site.

Five-Year Review

EPA has conducted two (2) Five-Year Reviews for this Site. Since the remedial action for Moyer's Landfill was selected before the Superfund Amendments and Reauthorization Act of 1986 (SARA) was enacted, EPA conducts these Five-Year Reviews as a matter of policy due to the fact that hazardous substances, pollutants, or contaminants remain at the Site above levels that allow for unlimited use and unrestricted exposure. These reviews are conducted pursuant to CERCLA Section 121(c), 42 U.S.C. 9621(c), and as provided in the current guidance on Five-Year Reviews.

The first Five-Year Review for the Site was completed on September 26, 2007, and the second Five-Year Review was completed on August 10, 2012. The next Five-Year Review for the Site is required by August 2017.

The second Five-Year Review for the Site found that the remedy has been constructed in accordance with the requirements of the ROD and is functioning as designed. The immediate threats have been addressed though capping the landfill and collecting and properly disposing of the leachate. Since the remedial actions at both Operable Units are protective, the Site is protective of human health and the environment. Long-term protectiveness of the remedy will be maintained by continuing to perform operation and maintenance of the landfill cap and leachate collection system; monitoring the groundwater and ambient air; and enforcing the institutional controls.

Community Involvement

Public participation activities have been satisfied as required in CERCLA section 113(k), 42 U.S.C. 9613(k), and CERCLA section 117, 42 U.S.C. 9617. Documents in the deletion docket which EPA relied on for recommendation of the deletion from the NPL are available to the public in the information repositories.

EPA notified local officials about upcoming Five-Year Reviews and placed notices in the Times Herald to inform the public that the Five-Year Reviews were being conducted and when the findings of each would be available.

Determination That the Criteria for Deletion Have Been Met

No further response action under CERCLA is appropriate. EPA has determined based on the investigations conducted that all appropriate response actions required have been implemented at the Site. Through the second Five-Year Review, EPA has also determined that the remedy is considered protective of human health and the environment and, therefore, additional remedial measures are not necessary. Other procedures required by 40 CFR 300.425(e) are detailed in Section III of this direct Final Notice of Deletion.

V. Deletion Action

The EPA, with concurrence of the Commonwealth of Pennsylvania, through PADEP has determined that all appropriate response actions under CERCLA, other than operation, maintenance, and five-year reviews, have been completed. Therefore, EPA is deleting the Site from the NPL.

Because EPA considers this action noncontroversial and routine, EPA is taking it without prior publication. This action will be effective May 27, 2014 unless EPA receives adverse comments by April 28, 2014. If adverse comments are received within the 30-day public comment period, EPA will publish a timely withdrawal of this direct final Notice of Deletion before the effective date of the deletion, and it will not take effect. EPA will prepare a response to comments and continue with the deletion process, as appropriate, on the basis of the Notice of Intent to Delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: February 27, 2014.
Shawn M. Garvin,
Regional Administrator, Environmental Protection Agency, Region 3.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR 1987 Comp., p.193.

Appendix B to Part 300 [Amended]

2. Table 1 of Appendix B to part 300 is amended by removing the entry for “PA”, “Moyers Landfill”, “Eagleville”.

[FR Doc. 2014-06811 Filed 3-26-14; 8:45 am]

BILLING CODE 6560-50-P